DEPARTMENT OF ENERGY

Federal Energy Regulatory Commission

[Docket No. MT00-18-000]

Williston Basin Interstate Pipeline Company; Notice of Compliance Filing

October 3, 2000.

Take notice that on September 29, 2000, Williston Basin Interstate Pipeline Company (Williston Basin), tendered for filing as part of its FERC Gas Tariff, Second Revised Volume No. 1, the following revised tariff sheet, with an effective date of September 29, 2000:

Thirteenth Revised Sheet No. 187

Williston Basin states that it is filing the proposed revision to its Tariff to reflect changes to the titles of two officers and/or board members currently listed in Section 7.1.1 of the General Terms and Conditions of Williston Basin's Tariff. Lester H. Loble was recently promoted from General Counsel and Secretary to Vice President, General Counsel and Secretary and Warren L. Robinson was promoted from Vice President, Treasurer and Chief Financial Officer to Executive Vice President, Treasurer and Chief Financial Officer.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25850 Filed 10-6-00; 8:45 am]

BILLING CODE 6717-01-M